DEPARTMENT OF COMMERCE

National Oceanic and Atmospheric Administration

[I.D. 081800H]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on September 11-14, 2000.

ADDRESSES: These meetings will be held at the Adam's Mark Hotel, 64 South Water Street, Mobile, AL; telephone: 334-438-4000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

September 13

8:30 a.m—Convene.

8:45 a.m.- 12:00 noon—Receive public testimony on a proposed Dolphin/Wahoo Fishery Management Plan (FMP). Persons who will testify must turn in a registration card before the start of the testimony period on Wednesday.

1:30 p.m.-3:30 p.m.—Receive the report of the Mackerel Management Committee.

3:30 p.m. - 4:00 p.m.—Receive a report of the Reef Fish Management Committee.

4:00 p.m.- 4:30 p.m. —Receive a report of the Shrimp Management Committee.

4:30 p.m.- 4:45 p.m. —Receive a report of the Stone Crab Management Committee.

4:45 p.m.- 5:00 p.m. —Receive a report of the Red Drum Management Committee.

5:00 p.m..- 5:15 p.m. —Receive a report of the Joint Reef Fish and Mackerel Management Committees.

5:15 p.m.- 5:30 p.m. —Receive a report of the Budget Committee.

September 14

8:30 a.m.- 10:30 a.m. —Receive a report of the Administrative Policy Committee.

10:30 a.m.- 10:45 a.m.—Receive a report of the Migratory Species Management Committee.

10:45 a.m.- 11:00 a.m. —Receive a report of the International Commission for the Conservation of Atlantic Tunas Advisory Committee Meeting.

11:00 a.m.- 11:15 a.m. —Receive enforcement reports.

11:15 a.m.- 11:30 a.m. —Receive the NMFS Regional Administrator's Report.

11:30 a.m.- 11:45 a.m. —Receive Director's Reports.

11:45 a.m- 4:30 p.m. — Other Business.

12:00 noon —Election of Chairman and Vice Chairman.

September 11

9:00 a.m. - 12:00 noon— Convene the Administrative Policy Committee to discuss amendments to the Magnuson-Stevens Fishery Conservation and Management Act (MSFCMA) and will develop recommendations for comments to be heard by full Council on Thursday morning.

1:00 p.m. - 2:00 p.m. — Convene the Budget Committee to review the CY 2001 budget.

2:00 p.m.- 5:00 p.m. — Convene the Mackerel Management Committee to discuss the proposed Dolphin/Wahoo FMP and develop recommendations for final action by the full Council on Wednesday afternoon. The Dolphin/Wahoo FMP has been prepared by the South Atlantic, Gulf, and Caribbean Fishery Management Councils. The first 10 actions, with options, of the Dolphin/Wahoo FMP contain measures that are applicable to the dolphin and wahoo stocks in the jurisdictions of all 3 councils. These include measures to: define the management units; address dealer, vessel, and operator permits; consider data reporting requirements; identify estimates of maximum sustainable yield, optimum yield, and overfishing/overfished criteria; and, framework options to enable seasonal adjustments to the management structure. Other actions, with options, are separately applicable to each council's area of jurisdiction, and include actions that may be implemented through the framework procedures, e.g. minimum size limits, bag limits, trip limits, and allocations, among others.

5:00 p.m.- 5:30 p.m. —Convene the Migratory Species Management Committee to discuss proposed management actions for billfish.

September 12

8:30 a.m- 11:30 a.m. — Convene the Reef Fish Management Committee to receive a report on a juvenile red snapper study, the Reef Fish Stock Assessment Panel's recommendations on grouper complex rebuilding scenarios, and to discuss requiring vessel monitoring systems (VMS) in Reef Fish Amendment 18.

12:30 p.m- 2:00 p.m. — Convene the Shrimp Management Committee to discuss Draft Shrimp Amendment 11 and approve it for public hearings. The draft amendment has alternatives, that if adopted, would require shrimp vessels to have permits or be registered, and operators to have permits.

2:00 p.m- 3:30 p.m. — Convene the Joint Reef Fish and Mackerel Management Committees to approve a Draft Amendment for Charter Vessel Permit Moratorium for public hearings. The draft amendment proposes to put a moratorium on the issuance of additional permits for charter vessels to fish for reef fish or coastal migratory pelagics in Federal waters of the Gulf of Mexico. The amendment will make the charter vessel permits transferable.

3:30 p.m- 5:00 p.m. — Convene the Stone Crab Management Committee to approve Draft Stone Crab Amendment 7 for public hearings. The draft amendment proposes to create a federal trap certificate program to complement the trap certificate program adopted by the state of Florida.

5:00 p.m- 5:30 p.m. — Convene the Red Drum Management Committee to hear recommendations of the Red Drum Stock Assessment Panel for carrying out research to determine the status of the stock.Although non-emergency issues not contained in the agenda may come before the Council for discussion, in accordance with the MSFCMA, those issues may not be the subject of formal Council action during this meeting. Council action will be restricted to those issues specifically identified in this notice and any issues arising after publication of this notice that require emergency action under section 305 (c) of the MSFCMA, provided the public has been notified of the Council's intent to take final action to address the emergency.

A copy of the Committee schedule and agenda can be obtained by calling (813) 228-2815.

Special Accommodations

These meetings are physically accessible to people with disabilities. Requests for sign language interpretation or other auxiliary aids should be directed to Anne Alford at the Council (see ADDRESSES) by September 5, 2000.

Dated: August 18, 2000.
Richard W. Surdi,
Acting Director, Office of Sustainable Fisheries, National Marine Fisheries Service.

[FR Doc. 00-21805 Filed 8-24-00; 8:45 am]

Billing Code: 3510-22-S